DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Open to the public Tuesday, February 22, 2022 from 11:00 a.m. to 1:00 p.m. Eastern time.

ADDRESSES: Due to the current guidance on combating the Coronavirus, the meeting will be conducted virtually or by teleconference only. To participate in the meeting, see the Meeting Accessibility section for instructions.

FOR FURTHER INFORMATION CONTACT: Ms. Jennifer Hill, Designated Federal Officer of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The mission of the Board is to examine and advise the Secretary of Defense on overall DoD management and governance. The Board provides independent advice reflecting an outside private sector perspective on proven and effective best business practices that can be applied to DoD.

Agenda: The Board meeting will begin February 22, 2022 at 11:00 a.m. Eastern time with opening remarks by Jennifer Hill, the Designated Federal Officer. The Board will then receive remarks by the Board Chair. The Board will then receive a presentation on the DBB Assessment of DoD Mentor Protégé Program. The Board members will deliberate and vote on the proposed findings, observations, and recommendations from the study. If time permits, the Chair may receive comments from the public. The meeting will conclude with closing remarks by the Board Chair and Designated Federal Officer. The latest version of the agenda will be available upon publication of the Federal Register on the Board's website at: https://dbb.defense.gov/Meetings/Meeting-February22-2022/.

Meeting Accessibility: Pursuant to the FACA and 41 CFR 102-3.140, the meeting on February 22, 2022 from 11:00 a.m. to 1:00 p.m. is open to the public. Persons desiring to participate in the public session are required to register. Public attendance will be by teleconference only. To attend the public session, submit your name, affiliation/organization, telephone number, and email contact information to the Board at osd.pentagon.odam.mbx.defense-business-board@mail.mil.

Requests to attend the public meeting must be received no later than 3:00 p.m. Eastern time, on Friday, February 18, 2022. Upon receipt of this information, a teleconference line number will be sent to the email address provided which will allow teleconference attendance to the event. (The DBB will be unable to provide technical assistance to any user experiencing technical difficulties during the meeting.)

Written Comments and Statements: Pursuant to 41 CFR 102-3.105(j) and 102-3.140 and section 10(a)(3) of the FACA, the public or interested organizations may submit written comments or statements to the Board in response to the stated agenda of the meeting or in regard to the Board's mission in general. Written comments or statements should be submitted to Ms. Jennifer Hill, the Designated Federal Officer, via electronic mail (the preferred mode of submission) at the address listed in the FOR FURTHER INFORMATION CONTACT section. Each page of the comment or statement must include the author's name, title or affiliation, address, and daytime phone number. The Designated Federal Officer must receive written comments or statements being submitted in response to the agenda set forth in this notice by February 15, 2022 to be considered by the Board. The Designated Federal Officer will review all timely submitted written comments or statements with the Board Chair, and ensure the comments are provided to all members of the Board before the meeting. Written comments or statements received after this date may not be provided to the Board until its next scheduled meeting. Pursuant to 41 CFR 102-3.140d, the Board is not obligated to allow any member of the public to speak or otherwise address the Board during the meeting. Members of the public will be permitted to make verbal comments during the meeting only at the time and in the manner described below. If a member of the public is interested in making a verbal comment at the meeting, that individual must submit a request, with a brief statement of the subject matter to be addressed by the comment, at least three (3) business days in advance to the Designated Federal Officer, via electronic mail (the preferred mode of submission) at the addresses listed in the FOR FURTHER INFORMATION CONTACT section. The Designated Federal Officer will log each request, in the order received, and in consultation with the Board Chair determine whether the subject matter of each comment is relevant to the Board's mission and/or the topics to be addressed in the public meeting. Members of the public who have requested to make a comment and whose comments have been deemed relevant under the process described above will be invited to speak in the order in which the Designated Federal Officer received their requests. The Board Chair may allot a specific amount of time for comments. Please note that all submitted comments and statements will be treated as public documents and will be made available for public inspection, including, but not limited to, being posted on the Board's website.

Dated: February 2, 2022.
Aaron T. Siegel,
Alternate OSD Federal Register Liaison Officer, Department of Defense.

[FR Doc. 2022-02486 Filed 2-4-22; 8:45 am]

BILLING CODE 5001-06-P